DEPARTMENT OF LABOR

Employment and Training Administration

[TA-W-36,947]

Smurfit-Stone Container Corp., A/K/A Stone Container Corp, El Paso, Texas; Amended Certification Regarding Eligibility To Apply for Worker Adjustment Assistance

In accordance with Section 223 of the Trade Act of 1974 (19 USC 2273) the Department of Labor issued a Certification of Eligibility to Apply for Worker Adjustment Assistance on January 18, 2000, applicable to workers of Smurfit-Stone Container Corp., El Paso, Texas. The notice will be published soon in the Federal Register.

At the request of the State agency, the Department reviewed the certification for workers of the subject firm. The workers are engaged in the production of non-corrugated folding boxes, a.k.a. paperboard. New information provided by the State shows that some of the claimants' wages are being reported under the Unemployment Insurance (UI) tax account for Stone Container Corp., El Paso, Texas.

The intent of the Department's certification is to include all workers of Smurfit-Stone Container Corp. who were adversely affected by imports.

Accordingly, the Department is amending the certification to cover the workers of Smurfit-Stone Corp., also known as Stone Container Corp., El Paso, Texas.

The amended notice applicable to TA-W-36,947 is hereby issued as follows:

All workers of Smurfit-Stone Container Corp., also known as Stone Container Corp., El Paso, Texas who became totally or partially separated from employment on or after September 27, 1998 through January 18, 2002 are eligible to apply for adjustment assistance under Section 223 of the Trade Act of 1974.

Signed at Washington, DC this 11th day of February, 2000.
Grant D. Beale,
Program Manager, Division of Trade Adjustment Assistance.

[FR Doc. 00-4126 Filed 2-18-00; 8:45 am]

BILLING CODE 4510-30-M